DEPARTMENT OF COMMERCE

International Trade Administration

[C-570-118]

Wood Mouldings and Millwork Products From the People's Republic of China: Preliminary Results and Partial Rescission of Countervailing Duty Administrative Review; 2023

AGENCY: Enforcement and Compliance, International Trade Administration, Department of Commerce.

SUMMARY: The U.S. Department of Commerce (Commerce) preliminarily finds that countervailable subsidies are being provided to producers and exporters of wood moulding and millwork products (millwork products) from the People's Republic of China (China) during the period of review (POR), January 1, 2023, through December 31, 2023. In addition, Commerce is rescinding this review with respect to 22 companies. Interested parties are invited to comment on these preliminary results of review.

DATES: Applicable June 12, 2025.

FOR FURTHER INFORMATION CONTACT: Brandon James or Joshua Nixon, AD/CVD Operations, Office VIII, Enforcement and Compliance, International Trade Administration, U.S. Department of Commerce, 1401 Constitution Avenue NW, Washington, DC 20230; telephone: (202) 482-2429 or (202) 482-1537, respectively.

SUPPLEMENTARY INFORMATION:

Background

On February 16, 2021, Commerce published a countervailing duty (CVD) order on millwork products from China.¹ The Coalition of American Millwork Producers (the petitioner) and other interested parties requested that Commerce conduct an administrative review of the Order. On April 9, 2024, Commerce published in the Federal Register a notice of initiation of an administrative review of the Order.² We initiated an administrative review of 38 producers/exporters of millwork products from China for the POR. On May 13, 2024, Commerce selected Zhejiang Senya Board Industry Co., Ltd. (Senya Board) and Fujian Yinfeng Imp & Exp Trading Co., Ltd. (Yinfeng) as the mandatory respondents in this administrative review.³

¹ See Wood Mouldings and Millwork Products from the People's Republic of China: Countervailing Duty Order, 86 FR 9484 (February 16, 2021) (Order).

² See Initiation of Antidumping and Countervailing Duty Administrative Reviews, 89 FR 24797 (April 9, 2024) (Initiation Notice).

³ See Memorandum, “Respondent Selection,” dated May 13, 2024.

On July 22, 2024, Commerce tolled certain deadlines in this administrative proceeding by seven days.⁴ On October 18, 2024, Commerce extended the deadline for the preliminary results of this review until February 15, 2025.⁵ Additionally, on December 9, 2024, Commerce tolled the deadline to issue the preliminary results in this administrative review by 90 days.⁶ On, May 12, 2025, Commerce further extended the deadline for the preliminary results of this review until June 5, 2025.⁷

⁴ See Memorandum, “Tolling of Deadlines for Antidumping and Countervailing Duty Proceedings,” dated July 22, 2024.

⁵ See Memorandum, “Extension of Deadline for Preliminary Results of Countervailing Duty Administrative Review; 2023,” dated October 18, 2024.

⁶ See Memorandum, “Tolling of Deadlines for Antidumping and Countervailing Duty Proceedings,” dated December 9, 2024.

⁷ See Memorandum, “Extension of Deadline for Preliminary Results of Countervailing Duty Administrative Review; 2023,” dated May 12, 2025.

For a complete description of the events that followed the initiation of this review, see the Preliminary Decision Memorandum.⁸ A list of topics discussed in the Preliminary Decision Memorandum is included at Appendix I. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of the Countervailing Duty Administrative Review of Wood Mouldings and Millwork Products from the People's Republic of China; 2023,” dated concurrently with, and hereby adopted by, this notice (Preliminary Decision Memorandum).

Scope of the Order

The products covered by the Order are millwork products from China. For a complete description of the scope of the Order, see the Preliminary Decision Memorandum.

Rescission of Administrative Review, in Part

Pursuant to 19 CFR 351.213(d)(1), Commerce will rescind an administrative review, in whole or in part, if a party who requested the review withdraws the request within 90 days of the date of publication of notice of initiation of the requested review. On June 25, 2024, Jeld-Wen, Inc. timely withdrew its request for review for one of the five companies for which it had requested a review.⁹ On July 8, 2024, Bel Trade Wood Industrial Co., Ltd Youxi Fujian et al. timely withdrew its requests for review of 11 companies.¹⁰ For each of the companies for which all requests for review were timely withdrawn and which are not cross-owned with a mandatory respondent, we are rescinding this review, in part, with respect to these companies pursuant to 19 CFR 351.213(d)(1).¹¹

⁹ See Jeld-Wen's Letter, “Withdrawal of Request for Administrative Review,” dated June 25, 2024.

¹⁰ See Bel Trade Wood Industrial Co., Ltd Youxi Fujian et al.'s Letter, “Withdrawal of Request for Administrative Review,” dated July 8, 2024.

¹¹ See Appendix II for a list of companies for which we are rescinding the review due to the timely withdrawal of the requests for review.

On October 2, 2024, Commerce notified interested parties that it intended to rescind this administrative review with respect to certain companies, in the absence of suspended entries during the POR, according to data obtained from U.S. Customs and Border Protection (CBP).¹² No party commented on the Intent to Rescind Memorandum. With respect to 20 companies noted in our Intent to Rescind Memorandum and for which all review requests were not timely withdrawn,¹³ we find that there were no reviewable entries of subject merchandise during the POR. As a result, we are rescinding this review, pursuant to 19 CFR 351.213(d)(3), with respect to these companies.

¹² See Memorandum, “Notice of Intent to Rescind Review, In Part,” dated October 2, 2024 (Intent to Rescind Memorandum). In the Intent to Rescind Memorandum, we included 21 companies, which inadvertently included Fujian Province Youxi City Mangrove Wood Machining Co., Ltd. Youxi Xicheng Branch (Mangrove Xicheng), which is cross-owned with Yinfeng.

¹³ See Appendix III for a list of these 20 companies.

Methodology

Commerce is conducting this administrative review in accordance with section 751(a)(1)(A) of the Tariff Act of 1930, as amended (the Act). For each of the subsidy programs found countervailable, we preliminarily determine that there is a subsidy, i.e., a financial contribution by an “authority” that confers a benefit to the recipient, and that the subsidy is specific.¹⁴ For a full description of the methodology underlying our preliminary results, including our reliance, in part, on adverse facts available pursuant to sections 776(a) and (b) of the Act, see the Preliminary Decision Memorandum.

¹⁴ See sections 771(5)(B) and (D) of the Act regarding financial contribution; section 771(5)(E) of the Act regarding benefit; and section 771(5A) of the Act regarding specificity.

Preliminary Rate for Non-Selected Companies Under Review

As discussed above, Commerce selected two mandatory respondents, Senya Board and Yinfeng, for individual examination.¹⁵ For the remaining 13 non-selected companies subject to this review, because the rates calculated for mandatory respondents Senya Board and Yinfeng were above de minimis and not based entirely on facts available, we are applying a preliminary subsidy rate based on a weighted average of the rates calculated for the two mandatory respondents using the publicly-ranged sales data they submitted on the record. This methodology is consistent with our practice for establishing an all-others subsidy rate pursuant to section 705(c)(5)(A) of the Act. For a list of the non-selected companies, see Appendix IV to this notice.

¹⁵ As discussed in the Preliminary Decision Memorandum, Commerce preliminarily finds Longquan Jiefeng Trade Co., Ltd. to be cross-owned with Senya Board. Longquan Jiefeng Trade Co., Ltd. was listed separately in the Initiation Notice.

Preliminary Results of Review

As a result of this review, we preliminarily determine the following net countervailable subsidy rates exist for the POR, January 1, 2023, through December 31, 2023:

Company | Subsidy rate (percent ad valorem)
Zhejiang Senya Board Industry Co., Ltd.¹⁶ | 26.25
Fujian Yinfeng Imp & Exp Trading Co., Ltd.¹⁷ | 10.16
Rate for Non-Selected Companies Under Review.¹⁸ | 12.94

Disclosure

¹⁶ Id.

¹⁷ As discussed in the Preliminary Decision Memorandum, Commerce preliminarily finds the following company to be cross-owned with Yinfeng: Fujian Province Youxi City Mangrove Wood Machining Co., Ltd. and Fujian Province Youxi City Mangrove Wood Machining Co., Ltd. Youxi Xicheng Branch.

¹⁸ See Appendix IV for a list of the non-selected companies under review.

Commerce intends to disclose its calculations and analysis performed to interested parties for these preliminary results within five days of any public announcement or, if there is no public announcement, within five days of the date of publication of this notice in accordance with 19 CFR 351.224(b).

Public Comment

Pursuant to 19 CFR 351.309(c)(1)(ii), we have modified the deadline for interested parties to submit case briefs to Commerce no later than 21 days after the date of the publication of this notice.¹⁹ Rebuttal briefs, limited to issues raised in the case briefs, may be filed not later than five days after the date for filing case briefs.²⁰ Interested parties who submit case briefs or rebuttal briefs in this proceeding must submit: (1) a table of contents listing each issue; and (2) a table of authorities.²¹

¹⁹ See 19 CFR 351.309.

²⁰ See 19 CFR 351.309(d); see also Administrative Protective Order, Service, and Other Procedures in Antidumping and Countervailing Duty Proceedings, 88 FR 67069, 67077 (September 29, 2023) (APO and Service Final Rule).

²¹ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²² Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²³

²² We use the term “issue” here to describe an argument that Commerce would normally address in a comment of the Issues and Decision Memorandum.

²³ See APO and Service Final Rule.

Pursuant to 19 CFR 351.310(c), interested parties who wish to request a hearing must submit a written request to the Assistant Secretary for Enforcement and Compliance, filed electronically via ACCESS. Requests should contain: (1) the party's name, address, and telephone number; (2) the number of participants and whether any of the participants are foreign nationals; and (3) a list of issues to be discussed. Issues raised in the hearing will be limited to those raised in the respective case briefs. An electronically filed hearing request must be received successfully in its entirety by Commerce's electronic records system, ACCESS, by 5 p.m. Eastern Time within 30 days after the date of publication of this notice.

Final Results

Unless otherwise extended, we intend to issue the final results of this administrative review, which will include the results of our analysis of the issues raised in the case briefs, within 120 days of publication of these preliminary results in the Federal Register, pursuant to section 751(a)(3)(A) of the Act and 19 CFR 351.213(h).

Assessment Rates

In accordance with 19 CFR 351.221(b)(4)(i), we preliminarily assigned subsidy rates in the amounts for the companies identified above. Upon completion of the administrative review, consistent with section 751(a)(1) of the Act and 19 CFR 351.212(b)(2), Commerce shall determine, and CBP shall assess, countervailing duties on all appropriate entries covered by this review.

For the companies for which this review is rescinded, Commerce will instruct CBP to assess countervailing duties on all appropriate entries at a rate equal to the cash deposit of estimated countervailing duties required at the time of entry, or withdrawal from warehouse, for consumption, during the period January 1, 2023, through December 31, 2023, in accordance with 19 CFR 351.212(c)(l)(i). Commerce intends to issue assessment instructions to CBP for these companies no earlier than 35 days after the publication of the preliminary results of this review in the Federal Register.

For the companies for which this review is not rescinded, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends, upon publication of the final results, to instruct CBP to collect cash deposits of estimated countervailing duties in the amounts shown for each of the respective companies listed above and in Appendix IV on shipments of subject merchandise entered, or withdrawn from warehouse, for consumption on or after the date of publication of the final results of this administrative review. For all non-reviewed firms, we will instruct CBP to continue to collect cash deposits at the most recent company-specific or all-others rate applicable to the company. These cash deposit requirements, when imposed, shall remain in effect until further notice.

Notification to Interested Parties

These preliminary results are issued and published pursuant to sections 751(a)(1) and 777(i)(1) of the Act, and 19 CFR 351.213 and 19 CFR 351.221(b)(4).

Dated: June 5, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Diversification of China's Economy

V. Use of Facts Otherwise Available and Application of Adverse Inferences

VI. Subsidies Valuation

VII. Interest Rate Benchmarks, Discount Rates, Inputs, Land-Use and Electricity Benchmarks

VIII. Analysis of Programs

IX. Recommendation

Appendix II

Companies for Which All Review Requests Were Timely Withdrawn ²⁴

²⁴ Commerce received timely requests to withdraw the review for 11 companies (Bel Trade Wood Industrial Co., Ltd Youxi Fujian, Baixing Import and Export Trading Co., Ltd, Youxi Fujian, Fujian Hongjia Craft Products Co., Ltd., Fujian Jinquan Trade Co., Ltd., Fujian Shunchang Shengsheng Wood Industry Limited Company, Fujian Youxi Best Arts & Crafts Co. Ltd, Fujian Zhangping Kimura Forestry Products Co., Ltd., Nanping Huatai Wood & Bamboo Co., Ltd, Shuyang Kevin International Co., Ltd, Fujian Wangbin Decorative Material Co., Ltd., and Huaan Longda Wood Industry Co., Ltd) (Collectively Bel Trade et al.). Commerce received review requests for Bel Trade et al. from both the petitioner and Bel Trade et al.; but only the Bel Trade et al.'s requests were withdrawn. Accordingly, we are not rescinding this review for Bel Trade et al.

1. Huaan Longda Wood Industry Co., Ltd

2. Nanjing Hualianxing Electronics Co., Ltd.

Appendix III

Companies for Which the Review Is Rescinded Due to No Reviewable Entries

1. Aventra Inc.

2. Baixing Import and Export Trading Co, Ltd. Youxi Fujian.

3. China Cornici Co. Ltd.

4. Composite Technology International Limited.

5. Fujian Sanming City Donglai Wood Co., Ltd.

6. Fujian Shunchang Shengsheng Wood Industry Limited Company.

7. Fujian Youxi Best Arts & Crafts Co. Ltd.

8. Fujian Zhangping Kimura Forestry Products Co., Ltd

9. Homebuild Industries Co., Ltd.

10. Jiangsu Chensheng Forestry Development Co., Ltd.

11. Jiangsu Wenfeng Wood Co., Ltd.

12. Omni One Co., Limited.

13. Perfect Window Fashions Co., Ltd.

14. Putian Yihong Wood Industry Co., Ltd.

15. Raoping HongRong Handicrafts Co., Ltd. (d.b.a. Chen Chui Global Corp.).

16. Sanming Lintong Trading Co., Ltd.

17. Shandong Miting Household Co., Ltd.

18. Shaxian Shiyiwood, Ltd.

19. Shuyang Kevin International Co., Ltd

20. Wuxi Boda Bamboo & Wood Industrial Co., Ltd.

Appendix IV

Non-Selected Companies Under Review

1. Anji Huaxin Bamboo & Wood Products Co., Ltd.

2. Bel Trade Wood Industrial Co.

3. Bel Trade Wood Industrial Co., Ltd. Youxi Fujian.

4. Cao County Hengda Wood Products Co., Ltd

5. Fotiou Frames Limited

6. Fujian Hongjia Craft Products Co., Ltd.

7. Fujian Jinquan Trade Co., Ltd., and Fujian Province Youxi County Baiyuan Wood Machining Co., Ltd.

8. Fujian Wangbin Decorative Material Co., Ltd.

9. Nanping Huatai Wood & Bamboo Co., Ltd.

10. Shaxian Hengtong Wood Industry Co., Ltd.

11. Shenzhen Xinjintai Industrial Co., Ltd.

12. Zhangzhou Wangjiamei Industry & Trade Co., Ltd.

13. Zhangzhou Yihong Industrial Co., Ltd.

[FR Doc. 2025-10653 Filed 6-11-25; 8:45 am]

BILLING CODE 3510-DS-P